DEPARTMENT OF JUSTICE

[OMB Number 1122-NEW]

Agency Information Collection Activities: New Collection; Comments Requested Survey of Transitional Housing Assistance for Victims of Domestic Violence, Dating Violence, Stalking, or Sexual Assault Program Grantees

ACTION: 30-Day notice.

The Department of Justice, Office on Violence Against Women (OVW) will b submitting the following information collection request to the Office of Management and Budget (OMB) for review and approval in accordance with the Paperwork Reduction Act of 1995. The proposed information collection is published to obtain comments from the public and affected agencies. This proposed information collection was previously published in the Federal Register, 78 FR 64245, on October 28, 2013, allowing for a 60 day comment period.

The purpose of this notice is to allow for an additional 30 days for public comment until February 12, 2014. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New collection.

(2) Title of the Form/Collection: Survey of Transitional Housing Assistance Program Grant for Victims of Domestic Violence, Dating Violence, Stalking, or Sexual Assault Program (Transitional Housing Assistance Program) grantees

(3) Agency form number, if any, and the applicable component of the Department of Justice sponsoring the collection: Form Number: 1122-XXXX. U.S. Department of Justice, Office on Violence Against Women

(4) Affected public who will be asked or required to respond, as well as a brief abstract: The affected public includes approximately 300 Transitional Housing Assistance Program Grant for Victims of Domestic Violence, Dating Violence, Stalking, or Sexual Assault Program (Transitional Housing Assistance Program) grantees. The Transitional Housing Assistance Program focuses on a holistic, victim-centered approach to providing transitional housing services that move survivors into permanent housing. Grants made under this grant program support programs that provide assistance to victims of sexual assault, domestic violence, dating violence, and/or stalking who are in need of transitional housing, short-term housing assistance, and related supportive services. Successful transitional housing programs provide a wide range of flexible and optional services that reflect the differences and individual needs of victims and that allow victims to choose the course of action that is best for them. Transitional housing programs may offer individualized services such as counseling, support groups, safety planning, and advocacy services as well as practical services such as licensed child care, employment services, transportation vouchers, telephones, and referrals to other agencies. Trained staff and case managers may also be available to work with survivors to help them determine and reach their goals of permanent housing.

(5) An estimate of the total number of respondents and the amount of time estimated for an average respondent to respond/reply: It is estimated that it will take the approximately 300 respondents (approximately 300 Transitional Housing Assistance Program grantees) approximately 30 minutes to complete the survey. The survey will address promising practices, specific interventions, how different programs track success, how different programs serve clients with different needs, how programs interact with other programs that do not have a focus on domestic violence, dating violence, sexual assault or stalking, how housing assistance and staffing are utilized for different kinds of programs, and successes and challenges experienced either under the grant program or in general.

(6) An estimate of the total public burden (in hours) associated with the collection: The total annual hour burden to complete the data collection forms is 150 hours, that is approximately 300 respondents with an estimated completion time for the form being 30 minutes.

If additional information is required contact: Jerri Murray, Department Clearance Officer, United States Department of Justice, Justice Management Division, Policy and Planning Staff, Two Constitution Square, 145 N Street NE., Room 3W-1407B,Washington, DC 20530.

Dated: January 7, 2014.
Jerri Murray,
Department Clearance Officer for PRA, United States Department of Justice.

[FR Doc. 2014-00339 Filed 1-10-14; 8:45 am]

BILLING CODE 4410-FX-P